DEPARTMENT OF THE TREASURY

Office of the Comptroller of the Currency

12 CFR Chapter I

[Docket ID OCC-2023-0016]

FEDERAL RESERVE SYSTEM

12 CFR Chapter II

[Docket No. OP-1828]

FEDERAL DEPOSIT INSURANCE CORPORATION

12 CFR Chapter III

RIN 3064-ZA39

Regulatory Publication and Review Under the Economic Growth and Regulatory Paperwork Reduction Act of 1996

AGENCY: Office of the Comptroller of the Currency (OCC), Treasury; Board of Governors of the Federal Reserve System (Board); Federal Deposit Insurance Corporation (FDIC).

ACTION: Regulatory review; request for comments.

SUMMARY: Pursuant to the Economic Growth and Regulatory Paperwork Reduction Act of 1996 (EGRPRA), the OCC, Board, and FDIC (collectively, the agencies) are reviewing agency regulations to identify outdated or otherwise unnecessary regulatory requirements on insured depository institutions and their holding companies. Over approximately two years, the agencies will publish four Federal Register documents requesting comment on multiple categories of regulations. This third Federal Register document requests comment on regulations in the categories of Rules of Procedure; Safety and Soundness; and Securities.

DATES: Written comments must be received no later than March 11, 2025.

ADDRESSES: Comments should be directed to:

OCC: Commenters are encouraged to submit comments through the Federal eRulemaking Portal. Please use the title “Regulatory Publication and Review Under the Economic Growth and Regulatory Paperwork Reduction Act of 1996” to facilitate the organization and distribution of the comments. You may submit comments by any of the following methods:

• Federal eRulemaking Portal—Regulations.gov:

Go to https://regulations.gov/. Enter “Docket ID OCC-2023-0016” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. eastern time (ET), or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and “Docket ID OCC-2023-0016” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov:

Go to https://regulations.gov/. Enter “Docket ID OCC-2023-0016” in the Search Box and click “Search.” Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Material” checkbox. For assistance with the Regulations.gov site, please call 1-866-498-2945 (toll free) Monday-Friday, 9 a.m.-5 p.m. ET, or email regulationshelpdesk@gsa.gov.

The docket may be viewed after the close of the comment period in the same manner as during the comment period.

Board: You may submit comments, identified by Docket No. OP-1828 by any of the following methods:

• Agency Website: https://www.federalreserve.gov. Follow the instructions for submitting comments at https://www.federalreserve.gov/generalinfo/foia/ProposedRegs.cfm.

• Federal eRulemaking Portal: https://www.regulations.gov. Follow the instructions for submitting comments.

• Email: regs.comments@federalreserve.gov. Include the docket number in the subject line of the message.

• Fax: 202-452-3819 or 202-452-3102.

• Mail: Ann E. Misback, Secretary, Board of Governors of the Federal Reserve System, 20th Street and Constitution Avenue NW, Washington, DC 20551.

Public Inspection: In general, all public comments will be made available on the Board's website at www.federalreserve.gov/generalinfo/foia/ProposedRegs.cfm as submitted, and will not be modified to remove confidential, contact or any identifiable information. Public comments may also be viewed electronically or in paper in Room M-4365A, 2001 C Street NW, Washington, DC 20551, between 9 a.m. and 5 p.m. during Federal business weekdays. For security reasons, the Board requires that visitors make an appointment to inspect comments by calling (202) 452-3684. Upon arrival, visitors will be required to present valid government-issued photo identification and to submit to security screening in order to inspect and photocopy comments. For users of TTY-TRS, please call 711 from any telephone, anywhere in the United States.

FDIC: Interested parties are invited to submit written comments, identified by RIN 3064-ZA39, by any of the following methods:

• Agency Website: https://www.fdic.gov/resources/regulations/federal-register-publications/. Follow instructions for submitting comments on the FDIC's website.

• Email: comments@FDIC.gov. Include “EGRPRA” in the subject line of the message.

• Mail: James P. Sheesley, Assistant Executive Secretary, Attention: Comments—RIN 3064-ZA39, Federal Deposit Insurance Corporation, 550 17th Street NW, Washington, DC 20429.

• Hand Delivery: Comments may be hand-delivered to the guard station at the rear of the 550 17th Street NW building (located on F Street NW) on business days between 7 a.m. and 5 p.m. ET.

Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act.

FOR FURTHER INFORMATION CONTACT:

OCC: Allison Hester-Haddad, Special Counsel, Daniel Amodeo, Counsel, or John Cooper, Counsel, Chief Counsel's Office (202) 649-5490, Office of the Comptroller of the Currency, 400 7th Street SW, Washington, DC 20219. If you are deaf, hard of hearing, or have a speech disability, please dial 7-1-1 to access telecommunications relay services.

Board: Katie Ballintine, Assistant Director, (202) 452-2555, and Colton Hamming, Financial Institution Policy Analyst III, (202) 452-3932, Division of Supervision and Regulation; Mandie Aubrey, Senior Counsel, (202) 452-2595, Division of Consumer and Community Affairs; Dafina Stewart, Deputy Associate General Counsel, (202) 452-2677, David Cohen, Counsel, (202) 452-5259, and Vivien Lee, Attorney, (202) 452-2029, Legal Division, Board of Governors of the Federal Reserve System, 20th Street and Constitution Avenue NW, Washington, DC 20551. For users of TTY-TRS, please call 711 from any telephone, anywhere in the United States.

FDIC: Karen J. Currie, Chief, Policy & Program Development Section, (202) 898-3981, Division of Risk Management Supervision; or William Piervincenzi, Supervisory Counsel, (202) 898-6957, Legal Division.

I. Introduction

Section 2222 of EGRPRA ¹ requires that not less frequently than once every 10 years, the Federal Financial Institutions Examination Council (FFIEC) ² and the agencies ³ conduct a review of their regulations to identify outdated or otherwise unnecessary regulatory requirements imposed on insured depository institutions. In conducting this review, the FFIEC or the agencies will (a) categorize their regulations by type and (b) at regular intervals, provide notice and solicit public comment on categories of regulations, requesting commenters to identify areas of regulations that are outdated, unnecessary, or unduly burdensome.⁴

¹ 12 U.S.C. 3311.

² The FFIEC is an interagency body empowered to prescribe uniform principles, standards, and report forms for the Federal examination of financial institutions and to make recommendations to promote uniformity in the supervision of financial institutions. The FFIEC does not issue regulations that impose burden on financial institutions and, therefore, we have not separately captioned the FFIEC in this document.

³ The FFIEC is comprised of the OCC, Board, FDIC, National Credit Union Administration (NCUA), Consumer Financial Protection Bureau (CFPB), and State Liaison Committee. Of these, only the OCC, Board, and FDIC are statutorily required to undertake the EGRPRA review. The NCUA elected to participate in the first and second EGRPRA reviews, and the NCUA Board again has elected to participate in this review process.

Consistent with its approach during the first and second EGRPRA reviews, the NCUA will separately issue documents and requests for comment on its rules. The CFPB is required to review its significant rules and publish a report of its review no later than five years after they take effect. See 12 U.S.C. 5512(d). This process is separate from the EGRPRA process.

⁴ Insured depository institutions are also subject to regulations that are not reviewed under the EGRPRA process because they were not prescribed by the agencies. Examples include rules for which rulemaking authority was transferred to the CFPB and anti-money laundering regulations issued by the Department of the Treasury's Financial Crimes Enforcement Network, among others. If, during the EGRPRA process, the agencies receive a comment about a regulation that is not subject to the EGRPRA review, we will forward that comment to the appropriate agency.

EGRPRA also requires the FFIEC or the agencies to publish in the Federal Register a summary of the comments received, identifying significant issues raised and commenting on those issues. It also directs the agencies to eliminate unnecessary regulations, as appropriate. Finally, the statute requires the FFIEC to submit a report to Congress that summarizes any significant issues raised in the public comments and the relative merits of those issues. The report also must include an analysis of whether the agencies are able to address the regulatory burdens associated with such issues or whether those burdens must be addressed by legislative action.

II. The EGRPRA Review's Targeted Focus

The EGRPRA regulatory review provides an opportunity for the public and the agencies to evaluate groups of related regulations and to identify opportunities for burden reduction.⁵ For example, the EGRPRA review may facilitate the identification of statutes and regulations that share similar goals or complementary methods where one or more agencies could eliminate the overlapping regulatory requirements. Alternatively, commenters may identify regulations or statutes that impose requirements that are no longer consistent with current business practices and may warrant revision or elimination.

⁵ See supra note 1.

The EGRPRA review also provides the agencies and the public with an opportunity to consider how to reduce the impact of regulations on community banks or their holding companies. The agencies are aware of the role that these institutions play in providing consumers and businesses across the nation with essential financial services and access to credit. The agencies are especially concerned about the impact of requirements on these smaller institutions. The agencies understand that when a new regulation is issued or a current regulation amended, smaller institutions may have to devote a significant amount of their resources to determine if and how the regulation will affect them. Through the public comment process, the EGRPRA review can help the agencies identify and target regulatory changes to reduce impacts on those smaller institutions.

Burden reduction must be compatible with consumer protection and the safety and soundness of insured depository institutions, their affiliates, and the financial system as a whole. Burden reduction also must be consistent with the agencies' statutory mandates, many of which require the issuance of regulations. EGRPRA recognizes that effective burden reduction may require statutory changes. Accordingly, as part of this review, the agencies specifically ask the public to comment on the relationship among burden reduction, regulatory requirements, policy objectives, and statutory mandates. The agencies also seek quantitative data about the impact of rules, where available.

The agencies note that they must consider regulatory burden each time an agency proposes, adopts, or amends a rule. For example, under the Paperwork Reduction Act of 1995 ⁶ and the Regulatory Flexibility Act,⁷ the agencies assess each rulemaking with respect to the burdens the rule might impose. The agencies also invite the public to comment on proposed rules as required by the Administrative Procedure Act.⁸

⁶ 44 U.S.C. 3501-3521.

⁷ 5 U.S.C. 610.

⁸ 5 U.S.C. 551-559.

III. The EGRPRA Review Process

Taken together for purposes of the EGRPRA review process, the agencies' regulations covering insured depository institutions encompass more than 100 subjects.⁹ Consistent with the EGRPRA statute and past practice, the agencies have grouped these regulations into the following 12 categories listed in alphabetical order: Applications and Reporting; Banking Operations; Capital; Community Reinvestment Act; Consumer Protection; ¹⁰ Directors, Officers and Employees; International Operations; Money Laundering; Powers and Activities; Rules of Procedure; Safety and Soundness; and Securities. These categories were used during the prior EGRPRA reviews. The agencies determined the categories by sorting the regulations by type and sought to have no category be too large or broad. These categories remain useful for the review, and the agencies have not modified the categories for purposes of this review.

⁹ Consistent with EGRPRA's focus on reducing burden on insured depository institutions, the agencies have not included their internal, organizational, or operational regulations in this review. These regulations impose minimal, if any, burden on insured depository institutions.

¹⁰ The agencies are seeking comment only on consumer protection regulations for which they retain rulemaking authority for insured depository institutions and holding companies under the Dodd-Frank Wall Street Reform and Consumer Protection Act, Public Law 111-203, 124 Stat. 1376 (2010) (Dodd-Frank Act).

To carry out the EGRPRA review, the agencies plan to publish four Federal Register documents with each addressing one or more categories of rules. Each Federal Register document will have a 90-day comment period. On February 6, 2024, the agencies published the first document, addressing the following categories of regulations: Applications and Reporting; Powers and Activities; and International Operations.¹¹ On August 1, 2024, the agencies published a second document, addressing Consumer Protection; Directors, Officers and Employees; and Money Laundering.¹² Today the agencies are publishing the third document addressing the categories of Rules of Procedure; Safety and Soundness; and Securities. The agencies invite the public to identify outdated, unnecessary, or unduly burdensome regulatory requirements imposed on insured depository institutions and their holding companies in these three categories.

¹¹ 89 FR 8084.

¹² 89 FR 62679.

To assist the public's understanding of how the agencies have organized the EGRPRA review, the agencies have prepared a chart that lists the categories of regulations for which the agencies are requesting comments. The chart's left column divides the categories into specific subject-matter areas. The headings at the top of the chart identify the types of institutions affected by the regulations.

The agencies will review the comments received and determine whether further action is appropriate with respect to the regulations. The agencies will consult and coordinate with each other and expect generally to make this determination jointly, as appropriate, in the case of rules that have been issued on an interagency basis. Similarly, as appropriate, the agencies will coordinate to amend or repeal those rules on an interagency basis. For rules issued by a single agency, the issuing agency will review the comments received and independently determine whether amendments to or repeal of its rules are appropriate.

Further, as part of the EGRPRA review, the agencies are holding a series of public outreach meetings to provide an opportunity for bankers, consumer and community groups, and other interested parties to present their views directly to senior management and staff of the agencies. More information about the outreach meetings can be found on the agencies' EGRPRA website, https://egrpra.ffiec.gov.

IV. Request for Comments on Regulations in the Rules of Procedure, Safety and Soundness, and Securities Categories

The agencies are requesting comment on regulations in the Rules of Procedure; Safety and Soundness; and Securities categories to identify outdated, unnecessary, or unduly burdensome requirements imposed on insured depository institutions and their holding companies. The agencies will solicit comment on all rules finalized by the agencies before the publication of the last EGRPRA document in the series. In addition to comments on regulations in these categories generally, the agencies are requesting comments on certain specific regulations described below within these categories issued since the last EGRPRA review. Where possible, the agencies ask commenters to cite to specific regulatory language or provisions. The agencies also welcome suggested alternative provisions or language in support of a comment, where appropriate. The agencies will consider comments submitted anonymously.

Specific Issues for Commenters To Consider

The agencies specifically invite comment on the following issues as they pertain to the agencies' Rules of Procedure; Safety and Soundness; and Securities rules addressed in this document. The agencies will ask these same questions for each document issued in connection with the EGRPRA process and invite comments on these questions for the categories in the previous EGRPRA documents.

• Need and purpose of the regulations.

○ Question 1: Have there been changes in the financial services industry, consumer behavior, or other circumstances that cause any regulations in these categories to be outdated, unnecessary, or unduly burdensome? If so, please identify the regulations, provide any available quantitative analyses or data, and indicate how the regulations should be amended.

○ Question 2: Do any of these regulations impose burdens not required by their underlying statutes? If so, please identify the regulations and indicate how they should be amended.

• Overarching approaches/flexibilities.

○ Question 3: With respect to the regulations in these categories, could an agency use a different regulatory approach to lessen the burden imposed by the regulations and achieve statutory intent?

○ Question 4: Do any of these rules impose unnecessarily inflexible requirements? If so, please identify the regulations and indicate how they should be amended.

• Cumulative effects.

○ Question 5: Looking at the regulations in a category as a whole, are there any requirements that are redundant, inconsistent, or overlapping in such a way that taken together, impose an unnecessary burden that could potentially be addressed? If so, please identify those regulations, provide any available quantitative analyses or data, and indicate how the regulations should be amended.

○ Question 6: Have the agencies issued similar regulations in the same area that should be considered together as bodies of regulation, when assessing the cumulative effects on an insured depository institution or holding company? If so, please identify the regulations, why they should be considered together, and any available analyses or data for the agencies' consideration.

○ Question 7: Could any regulations or category of regulation be streamlined or simplified to reduce unduly burdensome or duplicative regulatory requirements?

• Effect on competition.

○ Question 8: Do any of the regulations in these categories create competitive disadvantages for one part of the financial services industry compared to another or for one type of insured depository institution compared to another? If so, please identify the regulations and indicate how they should be amended.

• Reporting, recordkeeping, and disclosure requirements.

○ Question 9: Do any of the regulations in these categories impose outdated, unnecessary, or unduly burdensome reporting, recordkeeping, or disclosure requirements on insured depository institutions or their holding companies?

○ Question 10: Could an insured depository institution or its holding company fulfill any of these requirements through new technologies (if they are not already permitted to do so) and experience a burden reduction? If so, please identify the regulations and indicate how they should be amended.

• Unique characteristics of a type of institution.

○ Question 11: Do any of the regulations in these categories impose requirements that are unwarranted by the unique characteristics of a particular type of insured depository institution or holding company? If so, please identify the regulations and indicate how they should be amended.

• Clarity.

○ Question 12: Are the regulations in these categories clear and easy to understand?

○ Question 13: Are there specific regulations for which clarification is needed? If so, please identify the regulations and indicate how they should be amended.

• Impact to community banks and other small, insured depository institutions.

○ Question 14: Are there regulations in these categories that impose outdated, unnecessary, or unduly burdensome requirements on a substantial number of community banks, their holding companies, or other small, insured depository institutions or holding companies?

○ Question 15: Have the agencies issued regulations pursuant to a common statute that, as applied by the agencies, create redundancies or impose inconsistent requirements?

○ Question 16: Should any of these regulations issued pursuant to a common statute be amended or repealed to minimize this impact? If so, please identify the regulations and indicate how they should be amended.

○ Question 17: Have the effects of any regulations in these categories changed over time that now have a significant economic impact on a substantial number of small, insured depository institutions or holding companies? If so, please identify the regulations and indicate how they should be amended. The agencies seek information on (1) the continued need for the rule; (2) the complexity of the rule; (3) the extent to which the rule overlaps, duplicates or conflicts with other Federal rules, and, to the extent feasible, with State and local governmental rules; and (4) the degree to which technology, economic conditions, or other factors have changed in the area affected by the rule.

• Scope of rules.

○ Question 18: Is the scope of each rule in these categories consistent with the intent of the underlying statute(s)?

○ Question 19: Could the agencies amend the scope of a rule to clarify its applicability or reduce the burden, while remaining faithful to statutory intent? If so, please identify the regulations and indicate how they should be amended.

Specific Interagency Regulations Issued Since the Last EGRPRA Review

• Rules of Practice and Procedure: On December 28, 2023, the agencies along with NCUA published updated rules of practice and procedure, including both joint uniform rules and agency-specific local rules, to govern administrative proceedings.¹³ The updated rules are effective as of April 1, 2024. The new rules recognize the use of electronic communications in administrative hearings and make various technical and conforming changes to increase the efficiency and fairness of administrative adjudications. The rules also apply 12 CFR part 19 to Federal savings associations and remove the current administrative practice and procedure-related rules for Federal savings associations. The agencies jointly amended the uniform rules, and the OCC, Federal Reserve, and FDIC also amended their local rules.

¹³ 88 FR 89820 (Dec. 28, 2023).

• Appraisals for Higher-Priced Mortgage Loans Exemption Threshold: The OCC, FRB, and CFPB finalized amendments to the official interpretations for their regulations that implement section 129H of the Truth in Lending Act (TILA). Section 129H of TILA establishes special appraisal requirements for “higher-risk mortgages,” termed” higher-priced mortgage loans” or “HPMLs” in the agencies' regulations.¹⁴ The agencies amended the regulations to adjust the related Consumer Price Index for Urban Wage Earners and Clerical Workers (CPI-W) exemption threshold for certain loan types, effective January 1, 2024. The OCC joined other agencies in issuing corresponding regulations for each year between 2014 and 2022.¹⁵

¹⁴ 88 FR 83311 (Nov. 29, 2023).

¹⁵ 87 FR 63663 (Oct. 20, 2022); 86 FR 67843 (Nov. 30, 2021); 85 FR 79385 (Dec. 10, 2020); 84 FR 58013 (Oct. 30, 2019); 83 FR 59272 (Nov. 23, 2018); 82 FR 51973 (Nov. 9, 2017); 81 FR 86250 (Nov. 30, 2016); 80 FR 73943 (Nov. 27, 2015); 79 FR 78296 (Dec. 30, 2014).

• Real Estate Appraisals: The agencies adopted a final rule to amend their regulations requiring appraisals of real estate for certain transactions. The final rule increases the threshold level at or below which appraisals are not required for commercial real estate transactions from $250,000 to $500,000.¹⁶ The final rule defines a commercial real estate transaction as a real estate-related financial transaction that is not secured by a single 1-to-4 family residential property. It excludes all transactions secured by a single 1-to-4 family residential property, and, thus, construction loans secured by a single 1-to-4 family residential property are excluded. For commercial real estate transactions exempted from the appraisal requirement as a result of the revised threshold, regulated institutions must obtain an evaluation of the real property collateral that is consistent with safe and sound banking practices.

¹⁶ 83 FR 15019 (April 9, 2018).

• Real Estate Appraisals: The agencies adopted a final rule to amend the agencies' regulations requiring appraisals of real estate for certain transactions. The final rule increases the threshold level at or below which appraisals are not required for residential real estate transactions from $250,000 to $400,000.¹⁷ The final rule defines a residential real estate transaction as a real estate-related financial transaction that is secured by a single 1-to-4 family residential property. For residential real estate transactions exempted from the appraisal requirement as a result of the revised threshold, regulated institutions must obtain an evaluation of the real property collateral that is consistent with safe and sound banking practices. The final rule makes a conforming change to add to the list of exempt transactions those transactions secured by residential property in rural areas that have been exempted from the agencies' appraisal requirement pursuant to the Economic Growth, Regulatory Relief, and Consumer Protection Act. The final rule requires evaluations for these exempt transactions. The final rule also amends the agencies' appraisal regulations to require regulated institutions to subject appraisals for federally related transactions to appropriate review for compliance with the Uniform Standards of Professional Appraisal Practice.

¹⁷ 84 FR 53579 (Oct. 8, 2019).

• Net Stable Funding Ratio: The agencies adopted a final rule to implement a stable funding requirement, known as the net stable funding ratio (NSFR), for certain large banking organizations. The final rule established a quantitative metric, the NSFR, to measure the stability of the funding profile of certain large banking organizations and requires these banking organizations to maintain minimum amounts of stable funding to support their assets, commitments, and derivatives exposures over a one-year time horizon. The final rule applied to certain large U.S. depository institution holding companies, depository institutions, and U.S. intermediate holding companies of foreign banking organizations, each with total consolidated assets of $100 billion or more, together with certain depository institution subsidiaries (together, covered companies). The final rule also amended certain definitions in the agencies' liquidity coverage ratio rule that are also applicable to the NSFR.¹⁸

¹⁸ 86 FR 9120 (Feb. 11, 2021).

Specific OCC Regulations Issued Since the Last EGRPRA Review

• National Bank and Federal Savings Association Payment System Memberships: In December 2020, the OCC adopted a rule addressing national bank and Federal savings association membership in payment systems.¹⁹ The rule includes a notice requirement and safety and soundness reviews.

¹⁹ 85 FR 83686 (Dec. 22, 2020).

• Permissible Derivatives Activities for National Banks: In December 2020, the OCC adopted a rule governing permissible derivative activities for national banks.²⁰ The rule delineates the types of derivative activities that are permissible and includes notice and safety and soundness requirements.

²⁰ 85 FR 83686 (Dec. 22, 2020).

• Collective Investment Funds: In January 2017, the OCC amended 12 CFR 9.18(b)(1) to require that a national bank make a copy of the investment fund plan available to the public either at its main office or on its website.²¹ The rule also permits a national bank to satisfy the requirement to provide a copy of the plan to any person who requests it by providing it in either written or electronic form. The OCC amended 12 CFR 9.18(c)(2) to increase the asset threshold for mini-funds to $1,500,000, with an annual adjustment for inflation. In March 2020, the OCC revised the OCC's short-term investment fund rule (STIF Rule) for national banks acting in a fiduciary capacity.²² The OCC amended the rule to add a reservation of authority provision that addresses the rule's limits on weighted average portfolio maturity, weighted average portfolio life maturity, and the method for determining those limits. In August 2020, the OCC issued a rule to codify the standard withdrawal period for a collective investment fund and to provide that a national bank that requires a prior notice period for withdrawals generally must withdraw an account within the prior notice period or, if permissible under the collective investment fund's written plan, within one year after prior notice was required.²³ The rule also creates a limited exception that allows a national bank, with OCC approval, to withdraw an account from the collective investment fund up to one year beyond the standard withdrawal period, with opportunities for further extensions, provided that certain conditions are satisfied.

²¹ 82 FR 8082 (Jan. 23, 2017).

²² 85 FR 16888 (Mar. 25, 2020).

²³ 85 FR 49229 (Aug. 13, 2020).

• Municipal Securities Dealers: In March 2014, the OCC updated its headquarters mailing address.²⁴ In January 2017, the OCC codified an existing requirement for Federal savings associations that act as municipal securities dealers to file certain forms with the OCC. The OCC also made minor technical changes to 12 CFR part 10.²⁵

²⁴ 79 FR 15639 (Mar. 21, 2014).

²⁵ 82 FR 8082 (Jan. 23, 2017).

• Securities Exchange Act Disclosure Rules: In January 2017, the OCC adopted a rule designed to update certain relevant existing rules in accordance with a review of the EGRPRA.²⁶ The rule treats Federal savings associations similar to national banks under the rule with regard to their periodic reporting obligations under the Exchange Act. In addition, the updates permit the electronic filing of periodic reporting requirements, and provide the ability to make technical, non-substantive edits and clarifications.

²⁶ 82 FR 8082 (Jan. 23, 2017).

• Recordkeeping and Confirmation Requirements for Securities Transactions (National Banks): In January 2017, the OCC adopted a rule designed to update certain relevant existing rules in accordance with a review of the EGRPRA.²⁷ The rule clarifies that national banks may use a third-party service provider for recordkeeping and storage. The rule also aligns customer notification requirements for national banks and Federal savings associations and allows for the use of electronic communications. In October 2018, the OCC and FDIC adopted a rule to shorten the standard settlement cycle for securities purchased or sold by national banks.²⁸ The rule requires banks to settle most securities transactions within the number of business days followed by registered broker dealers in the United States.

²⁷ 82 FR 8082 (Jan. 23, 2017).

²⁸ 83 FR 26347 (Jun. 7, 2018).

• Recordkeeping and Confirmation Requirements for Securities Transactions (Federal Savings Associations): In January 2017, the OCC adopted a rule designed to update certain relevant existing rules in accordance with a review of the EGRPRA.²⁹ The rule treats Federal savings associations the same as national banks by reducing records maintenance and storage requirements. The rule also reduces the frequency of statements that must be sent to a customer when a Federal savings association receives remuneration from any source. In October 2018, the OCC and FDIC adopted a rule to shorten the standard settlement cycle for securities purchased or sold by Federal savings associations.³⁰ The rule requires Federal savings associations to settle most securities transactions within the number of business days followed by registered broker dealers in the United States.

²⁹ 82 FR 8082 (Jan. 23, 2017).

³⁰ 83 FR 26347 (Jun. 7, 2018).

• Securities Offering Disclosure Rules: In January 2017, the OCC made amendments to 12 CFR part 16 as part of the EGRPRA process to integrate Federal savings associations into 12 CFR part 16 and delete former 12 CFR part 197, which previously applied to the securities activities of Federal savings associations.³¹ These amendments also took provisions from former 12 CFR part 197 pertaining to electronic filings and adapted them in 12 CFR part 16 to enable electronic filings under the latter. The OCC made further technical amendments in July 2020 regarding the form and content of registration statements and requests for interpretative advice and no-objection letters.³²

³¹ 82 FR 8082 (Jan. 23, 2017).

³² 85 FR 42630 (Jul. 14, 2020).

• Applications for Stay or Review of Disciplinary Actions Imposed by Registered Clearing Agencies: As part of the OCC's reorganization of the 12 CFR part 19 local rules, 12 CFR 19.135, “Applications for stay or review of disciplinary actions imposed by registered clearing agencies,” was redesignated as 12 CFR 19.121(d). There was no change to the substance of the provision.

• Securities and Borrowings: The OCC has made minor revisions regarding provisions relating to Federal savings association securities and borrowing several times. The OCC removed certain provisions in 2015 as part of the integration of national bank and Federal savings association rules.³³ The OCC made technical and conforming edits in 2019 and 2020.³⁴

³³ 80 FR 28480 (May 18, 2015). In addition, the OCC issued a technical correction relating to offers and sales of securities at an office of a Federal savings association in 2015. 80 FR 79460 (Dec. 22, 2015).

³⁴ 84 FR 56376 (Oct. 22, 2019); 84 FR 64193 (Nov. 21, 2019) (amendment of effective date and correction); 84 FR 71735 (Dec. 30, 2019) (technical amendments, correction); 85 FR 42630 (Jul. 14, 2020).

• Federal Savings Association Financial Management Policies: In January 2017, as a result of the previous EGRPRA review, OCC revised its regulations for Federal savings associations for financial derivatives to clarify the rule.³⁵

³⁵ 82 FR 8110 (Jan. 23, 2017).

• Recovery Planning Guidelines: In 2016, the OCC published enforceable standards for insured national banks, Federal savings associations, and Federal branches of foreign banks with $50 billion or more in average total consolidated assets.³⁶ In 2018, the OCC increased this threshold to $250 billion or more.³⁷ In 2024, the OCC adjusted the threshold to $100 billion or more, incorporated a testing standard, and clarified the role of non-financial (operational and strategic) risk in recovery planning.³⁸ The guidelines provide a comprehensive framework for evaluating the financial effects of severe stress that may affect a covered institution and options it may take to remain viable under such stress. The OCC also made technical changes to 12 CFR part 30 when it issued these guidelines.

³⁶ 81 FR 66800 (Sep. 29, 2016).

³⁷ 83 FR 66607 (Dec. 27, 2018).

³⁸ 89 FR 84255 (Oct. 22, 2024).

• Voluntary Liquidation: The OCC integrated the provisions related to national bank and Federal savings association voluntary liquidation.³⁹ The OCC made minor updates to this regulation in January 2017,⁴⁰ as part of the previous EGRPRA review, and December 2020.⁴¹

³⁹ 80 FR 28346 (May 18, 2015).

⁴⁰ 82 FR 8082 (Jan. 23, 2017).

⁴¹ 85 FR 80404 (Dec. 11, 2020).

• Other Real Estate Owned: The OCC integrated its regulations for national banks and Federal savings associations.⁴²

⁴² 84 FR 56369 (Oct. 22, 2019).

• Legal Lending Limits: The OCC revised 12 CFR part 32 to make technical conforming amendments to certain definitions and provisions to make 12 CFR part 32 consistent with the capital framework,⁴³ integration of Federal savings associations into OCC regulations relating to policies and procedures,⁴⁴ implementation of the current expected credit losses methodology (CECL),⁴⁵ the community bank leverage ratio framework,⁴⁶ and the standardized approach for counterparty credit risk (SA-CCR).⁴⁷ In addition, the OCC revised 12 CFR part 32 to conform with and clarify applicability of certain limits in Call Report instructions.⁴⁸

⁴³ 79 FR 11300 (February 28, 2014).

⁴⁴ 80 FR 28346 (May 18, 2015).

⁴⁵ 84 FR 4222 (February 14, 2019).

⁴⁶ 84 FR 61776 (November 13, 2019); 84 FR 69296 (December 18, 2019).

⁴⁷ 85 FR 4362 (January 24, 2020).

⁴⁸ 85 FR 42630 (July 14, 2020); 85 FR 61809 (October 1, 2020).

• Affiliates Transactions: As part of the previous EGRPRA review, the OCC integrated its regulations and added provisions for national banks and Federal savings association to request exemptions.⁴⁹

⁴⁹ 82 FR 8082 (Jan. 23, 2017).

• Federal Savings Association Financial Management Policies: In response to the last EGRPRA review, the OCC revised its regulations for Federal savings associations for financial derivatives to clarify the rule.⁵⁰

⁵⁰ 82 FR 8110 (Jan. 23, 2017).

Specific Board Regulations Issued Since the Last EGRPRA Review

• Financial Market Utilities: The Board issued a final rule amending the requirements relating to operational risk management in the Board's Regulation HH, which applies to certain financial market utilities (FMUs) that have been designated as systemically important (designated FMUs) by the Financial Stability Oversight Council (FSOC) under title VIII of the Dodd-Frank Act. The amendments updated, refined, and added specificity to the operational risk management requirements in Regulation HH to reflect changes in the operational risk, technology, and regulatory landscape in which designated FMUs operate. The final rule also required specific incident-notification requirements.⁵¹

⁵¹ 89 FR 18749 (March 15, 2024).

• Enhanced Prudential Standards: The Board established risk-based categories for determining prudential standards for large U.S. banking organizations and foreign banking organizations, consistent with section 165 of the Dodd-Frank Act, as amended by the Economic Growth, Regulatory Relief, and Consumer Protection Act (EGRRCPA), and with the Home Owners' Loan Act. The rule amended certain prudential standards, including standards relating to liquidity, risk management, and single-counterparty credit limits, to reflect the risk profile of banking organizations under each category; applied prudential standards to certain large savings and loan holding companies using the same categories; and made corresponding changes to reporting forms.⁵²

⁵² 84 FR 59032 (Nov. 1, 2019).

• Single-Counterparty Credit Limits: The Board established single-counterparty credit limits for bank holding companies and foreign banking organizations with $250 billion or more in total consolidated assets, including any U.S. intermediate holding company of such a foreign banking organization with $50 billion or more in total consolidated assets, and any bank holding company identified as a global systemically important bank holding company under the Board's capital rules. The final rule implemented section 165(e) of the Dodd-Frank Act, which requires the Board to impose limits on the amount of credit exposure that such a bank holding company or foreign banking organization can have to an unaffiliated company in order to reduce the risks arising from the company's failure.⁵³

⁵³ 83 FR 38460 (Aug. 6, 2018).

• Extensions of Credit by Federal Reserve Banks: The Board revised provisions in its Regulation A regarding the establishment of the primary credit rate in a financial emergency and deleted the provisions relating to the use of credit ratings for collateral for extensions of credit under the former Term Asset-Backed Securities Loan Facility.⁵⁴

⁵⁴ 83 FR 21167 (May 9, 2018).

• Qualified Financial Contracts: The Board issued a rule imposing certain restrictions on firms with respect to qualified financial contracts. The rule applied to global systemically important banking organization and certain subsidiaries.⁵⁵

⁵⁵ 82 FR 42882 (Sept. 12, 2017).

• Resolution Plans: The Board and FDIC issued a rule implementing the resolution planning requirements under Dodd Frank. The rule also established risk-based categories for determining the application of the resolution planning requirement to certain U.S. and foreign banking organizations. The final rule also extended the default resolution plan filing cycle, allowed for more focused resolution plan submissions, and improved certain aspects of the resolution planning rule.⁵⁶

⁵⁶ 84 FR 59194 (Nov. 1, 2019).

Specific FDIC Regulations Issued Since the Last EGRPRA Review

• Resolution Plans: The FDIC issued a rule to require the submission of resolution plans by insured depository institutions (IDIs) with $100 billion or more in total assets and informational filings by IDIs with at least $50 billion but less than $100 billion in total assets. The rule modified the content and timing of full resolution submissions, as well as interim supplements to those submissions provided to the FDIC. The rule also enhanced how the credibility of full resolution submissions will be assessed, expanded expectations regarding engagement and capabilities testing, and explained expectations regarding the FDIC's review, feedback, and enforcement of IDIs' compliance with the rule.⁵⁷

⁵⁷ 89 FR 56620 (July 9, 2024).

• Recordkeeping for Timely Deposit Insurance Determination: In 2019, the FDIC amended its rules in 12 CFR part 370 to clarify its requirements for recordkeeping for timely deposit insurance determination, to better align the burdens of the rule with the benefits, and to make technical corrections.⁵⁸

⁵⁸ 84 FR 37020 (July 30, 2019).

• Recordkeeping Requirements for Qualified Financial Contracts: The FDIC amended its regulations regarding recordkeeping requirements for qualified financial contracts (QFCs) in 2017 to augment the scope of QFC records required to be maintained by an IDI that is subject to the FDIC's recordkeeping requirements and that has total consolidated assets equal to or greater than $50 billion or is a consolidated affiliate of a member of a corporate group with one or more members of which are subject to the QFC recordkeeping requirements set forth in the regulations adopted by the Department of the Treasury (a “full scope entity”); for all other IDIs subject to the FDIC's QFC recordkeeping requirements, added and deleted a limited number of data requirements and made certain formatting changes with respect to the QFC recordkeeping requirements; required full scope entities to keep QFC records of certain of their subsidiaries; provided an exemption process; and included certain other changes, including changes that provided additional time for certain IDIs in a troubled condition to comply with the regulations.⁵⁹

⁵⁹ 82 FR 35584 (July 31, 2017).

• Limited Exception for a Capped Amount of Reciprocal Deposits from Treatment as Brokered Deposits: In 2019, the FDIC amended its regulations on brokered deposits and interest rate restrictions to conform with changes to section 29 of the Federal Deposit Insurance Act made by section 202 of the EGRRCPA related to reciprocal deposits. The FDIC also made conforming amendments to the FDIC's regulations governing deposit insurance assessments.⁶⁰

⁶⁰ 84 FR 1346 (Feb. 4, 2019); 84 FR 15095 (April 15, 2019).

• Unsafe and Unsound Banking Practices Relating to Brokered Deposits and Interest Rate Restrictions: In 2021, the FDIC revised regulations relating to the brokered deposits and interest rate restrictions that apply to less than well capitalized IDIs. For brokered deposits, the FDIC issued a rule to establish a new framework for analyzing certain provisions of the “deposit broker” definition, including “facilitating” and “primary purpose.” For the interest rate restrictions, the FDIC amended its methodology for calculating the national rate, the national rate cap, and the local market rate cap.⁶¹

⁶¹ 86 FR 6742 (Jan. 22, 2021).

• Registration of Securities Transfer Agents: The FDIC issued a rule in 2016 to amend its regulations requiring insured State nonmember banks, or subsidiaries of such banks, and insured State savings associations and subsidiaries of such State savings associations, that act as transfer agents for qualifying securities under section 12 of the Securities Exchange Act of 1934 to register with the FDIC. The rule also revised the definition of qualifying securities to reflect statutory changes to the Securities and Exchange Act of 1934.⁶²

⁶² 81 FR 27295 (May 6, 2016).

V. The Agencies' Review of Regulations Under Section 610 of the Regulatory Flexibility Act (RFA)

Consistent with past practice, the agencies will use the EGRPRA review to satisfy their respective obligations under section 610 of the RFA.⁶³ To that end, for each rule that has a significant impact on a substantial number of small entities issued in the last 10 years, the agencies invite comment on (1) the continued need for the rule; (2) the complexity of the rule; (3) the extent to which the rule overlaps, duplicates or conflicts with other Federal rules, and, to the extent feasible, with State and local governmental rules; and (4) the length of time since the rule has been evaluated or the degree to which technology, economic conditions, or other factors have changed in the area affected by the rule. The purpose of the review will be to determine whether such rules should be continued without change, or should be amended or rescinded, consistent with the stated objectives of applicable statutes, to minimize any significant economic impact of the rules upon a substantial number of such small entities.

⁶³ Section 610 of the Regulatory Flexibility Act, 5 U.S.C. 610, imposes a continuing obligation on the agencies to review regulations that may have a significant economic impact upon a substantial number of small entities within 10 years after a final rulemaking is published. A subset of the rules the agencies will review under EGRPRA will also be reviewed under the section 610 review criteria. The agencies will indicate which rules are subject to section 610 review. The factors the agencies consider in evaluating a rule under 5 U.S.C. 610 are (1) the continued need for the rule; (2) the nature of complaints or comments received concerning the rule from the public; (3) the complexity of the rule; (4) the extent to which the rule overlaps, duplicates or conflicts with other Federal rules, and, to the extent feasible, with State and local governmental rules; and (5) the length of time since the rule has been evaluated or the degree to which technology, economic conditions, or other factors have changed in the area affected by the rule.

The agencies have not identified any rules pertaining to Rules of Procedure; Safety and Soundness; and Securities that would have a significant impact on a substantial number of small entities.⁶⁴ The agencies will consider public comments submitted through the EGRPRA review process and agency experience to identify regulations where the agencies can reduce burdens that have a significant impact on a substantial number of small, insured depository institutions.⁶⁵

⁶⁴ The FDIC certified that the Unsafe and Unsound Banking Practices Relating to Brokered Deposits and Interest Rate Restrictions rule issued in 2021 would not have a significant economic effect on a substantial number of small entities, after conducting a full Final Regulatory Flexibility Act analysis. Because some expected effects were hard to assess or accurately quantify, the FDIC published a small entity compliance guide.

⁶⁵ The review will be consistent with the requirements of a Regulatory Flexibility Act, section 610 review. The agencies will determine whether particular rules should be continued without change, amended, or rescinded, consistent with the objectives of applicable statutes, to minimize any significant economic impact of the rules on a substantial number of small, insured depository institutions.

Subject | National banks | State member banks | State non-member banks | Federal savings associations | State savings associations | BHCs & FHCs — — — — — SLHCs
Rules of Procedure: | Interagency Regulations:
Uniform Rules of Practice and Procedure | 12 CFR part 19 | 12 CFR part 263 | 12 CFR part 308 | 12 CFR part 19 | 12 CFR part 308 | 12 CFR part 263.
OCC Regulations
Voluntary Liquidation of a National Bank or Federal Savings Association | 12 CFR 5.48 |  |  | 12 CFR 5.48
FDIC Regulations ¹
Resolution and Receivership Rules | 12 CFR part 360 | 12 CFR part 360 | 12 CFR part 360 | 12 CFR part 360 | 12 CFR part 360
Recordkeeping for Timely Deposit Insurance Determination | 12 CFR part 370 | 12 CFR part 370 | 12 CFR part 370 | 12 CFR part 370 | 12 CFR part 370
Recordkeeping Requirements for Qualified Financial Contracts | 12 CFR part 371 | 12 CFR part 371 | 12 CFR part 371 | 12 CFR part 371 | 12 CFR part 371
Restrictions on Sale of Assets by the Federal Deposit Insurance Corporation | 12 CFR part 340 | 12 CFR part 340 | 12 CFR part 340 | 12 CFR part 340 | 12 CFR part 340
Safety and Soundness: | Interagency Regulations:
Minimum Security Procedures | 12 CFR part 21, subpart A | 12 CFR 208.61 [Reg. H] | 12 CFR part 326, subpart A | 12 CFR part 168 | 12 CFR part 326, subpart A
Appraisal Standards for Federally Related Transactions | 12 CFR part 34, subpart C | 12 CFR 208.50 [Reg. H]; 12 CFR part 225, subpart G [Reg. Y] | 12 CFR part 323 | 12 CFR part 34, subpart C | 12 CFR part 323 | 12 CFR part 225, subpart G [Reg. Y].
Real Estate Lending Standards | 12 CFR part 34, subpart D | 12 CFR part 208, appx. C [Reg H] | 12 CFR part 365, subpart A | 12 CFR 160.101 | 12 CFR part 365, subpart A
Appraisals: Higher-Priced Mortgages | 12 CFR part 34, subpart G | 12 CFR 226.43; 12 CFR part 226, appx. N and O, and supp. I [Reg. Z] | 12 CFR part 1026 [Reg. Z] | 12 CFR part 34, subpart G | 12 CFR part 1026 [Reg. Z] | 12 CFR 226.43; 12 CFR part 226, appx. N and O, and supp. I [Reg. Z]. — — — — — 12 CFR 226.43; 12 CFR part 226, appx. N and O, and supp. I [Reg. Z].
Appraisal Management Company Minimum Standards | 12 CFR part 34, subpart H | 12 CFR part 225, subpart M [Reg. Y] | 12 CFR part 323, subpart B | 12 CFR part 34, subpart H | 12 CFR part 323, subpart B
Credit Risk Retention | 12 CFR part 43 | 12 CFR part 244 [Reg. RR] | 12 CFR part 373 | 12 CFR part 43 | 12 CFR part 373 | 12 CFR part 244 [Reg. RR]. — — — — — 12 CFR part 244 [Reg. RR].
Frequency of Safety and Soundness Examination | 12 CFR 4.6-.7 | 12 CFR 208.64 [Reg. H] | 12 CFR 337.12 | 12 CFR 4.6 (See also: 12 CFR 163.170) | 12 CFR 337.12
Liquidity Risk | 12 CFR part 50 | 12 CFR part 249 [Reg. WW] | 12 CFR part 329 | 12 CFR part 50 | 12 CFR part 329 | 12 CFR part 249 [Reg. WW]. — — — — — 12 CFR part 249 [Reg. WW].
Mandatory Contractual Requirements for Qualified Financial Contracts | 12 CFR part 47 | 12 CFR part 252, subpart I [Reg. YY] | 12 CFR part 382 | 12 CFR part 47 | 12 CFR part 382 | 12 CFR part 252, subpart I [Reg. YY].
Resolution Plans | 12 CFR 360.10 | 12 CFR 360.10 | 12 CFR 360.10 | 12 CFR 360.10 | 12 CFR 360.10 | 12 CFR part 381; 12 CFR part 243 [Reg. QQ].
Safety and Soundness Standards | 12 CFR part 30 generally; 12 CFR part 30, appx. A | 12 CFR part 208, appx. D-1 [Reg. H] | 12 CFR part 364, appx. A | 12 CFR part 30 generally; 12 CFR part 30, appx. A | 12 CFR part 364, appx. A
Transactions with Affiliates | 12 CFR part 223 [Reg. W]; 12 CFR part 31 | 12 CFR part 223 [Reg. W] | 12 CFR part 223 [Reg. W] | 12 CFR part 223 [Reg. W]; 12 CFR part 31 | 12 CFR part 223 [Reg. W]
OCC Regulations: | Heightened Standards Guidelines | 12 CFR part 30, appx. D |  |  | 12 CFR part 30, appx. D
Lending Limits | 12 CFR part 32 |  |  | 12 CFR part 32 | 12 CFR part 32
Recovery Planning Guidelines | 12 CFR part 30, appx. E |  |  | 12 CFR part 30, appx. E
Other Real Estate Owned | 12 CFR part 34, subpart E |  |  | 12 CFR part 34, subpart E
Federal Savings Association Financial Management Policies |  |  |  | 12 CFR part 163, subpart F
Federal Savings Association Lending and Investment — Additional Safety and Soundness Limitations |  |  |  | 12 CFR part 160 | 12 CFR part 160
Board Regulations:
Appraisals: Appraiser Independence |  | 12 CFR 226.42; 12 CFR part 226, supp. I [Reg. Z] | 12 CFR part 1026 [Reg. Z] |  |  | 12 CFR 226.42; 12 CFR part 226, supp. I [Reg. Z]. — — — — — 12 CFR 226.42; 12 CFR part 226, supp. I [Reg. Z].
Definitions related to the Financial Stability Oversight Council |  |  |  |  |  | 12 CFR part 242 [Reg. PP].
Enhanced Prudential Standards Risk Committee Requirement (for certain BHCs) Standards for BHCs with consolidated assets $50 billion or more and less than $100B |  |  |  |  |  | 12 CFR part 252, subpart C [Reg. YY]. — — — — — 12 CFR part 238, subpart M [Reg. LL].
Enhanced Prudential Standards Risk Committee Requirement (for certain BHCs) Standards for BHCs with consolidated assets $100 billion or more |  |  |  |  |  | 12 CFR 252.33 [Reg. YY]. — — — — — 12 CFR 238.122 [Reg. LL].
Extensions of Credit by Federal Reserve Banks | 12 CFR part 201 [Reg. A] | 12 CFR part 201 [Reg. A] | 12 CFR part 201 [Reg. A] | 12 CFR part 201 [Reg. A] | 12 CFR part 201 [Reg. A]
Financial Market Utilities | 12 CFR part 234 [Reg. HH] | 12 CFR part 234 [Reg. HH] | 12 CFR part 234 [Reg. HH] | 12 CFR part 234 [Reg. HH] | 12 CFR part 234 [Reg. HH] | 12 CFR part 234 [Reg. HH].
Limitations on Interbank Liabilities | 12 CFR part 206 [Reg. F] | 12 CFR part 206 [Reg. F] | 12 CFR part 206 [Reg. F] | 12 CFR part 206 [Reg. F] | 12 CFR part 206 [Reg. F]
Securities Holding Companies |  |  |  |  |  | 12 CFR part 241 [Reg. OO].
Single Counterparty Credit Limit |  |  |  |  |  | 12 CFR part 252, subparts H and Q [Reg. YY].
FDIC Regulations:
Annual Independent Audits and Reporting Requirements | 12 CFR part 363 | 12 CFR part 363 | 12 CFR part 363 | 12 CFR part 363 | 12 CFR part 363
Unsafe and Unsound Banking Practices (Standby Letters of Credit) |  |  | 12 CFR 337.2
Unsafe and Unsound Banking Practices (Brokered Deposits) | 12 CFR 337.6 | 12 CFR 337.6 | 12 CFR 337.6 | 12 CFR 337.6 | 12 CFR 337.6
Securities:
Interagency Regulations:
Banks as Registered Clearing Agencies | 12 CFR 19.135 | 12 CFR 208.32-33 [Reg. H] | 12 CFR part 308, subpart S
Banks as Securities Transfer Agents | 12 CFR 9.20 | 12 CFR 208.31 [Reg. H] | 12 CFR part 341
Government Securities Sales Practices | 12 CFR part 13 | 12 CFR 208.37 [Reg. H] | 12 CFR part 368
Recordkeeping and Confirmation of Securities Transactions Effected by Banks | 12 CFR part 12 | 12 CFR 208.34 [Reg. H] | 12 CFR part 344 | 12 CFR part 151 | 12 CFR part 344
Reporting Requirements for Reported Securities Under the Securities Exchange Act of 1934 | 12 CFR part 11 | 12 CFR 208.36 [Reg. H] | 12 CFR part 335 | 12 CFR part 11 | 12 CFR part 335; 12 CFR part 390, subpart Q; 12 CFR part 390, subpart W
Securities Offerings | 12 CFR part 16 |  | 12 CFR part 335 | 12 CFR part 16 | 12 CFR part 335; 12 CFR part 390, subpart Q; 12 CFR part 390, subpart W
OCC Regulations:
Municipal Securities Dealer Activities of Banks | 12 CFR part 10 |  |  | 12 CFR part 10
Federal Savings Associations Proxies |  |  |  | 12 CFR part 169 | 12 CFR part 169
Federal Savings Associations Rules on the Issuance and Sale of Institution Securities |  |  |  | 12 CFR 163.5; 12 CFR part 163, subpart C
Board Regulations:
Credit by Banks and Persons Other than Brokers or Dealers for the Purpose of Purchasing or Carrying Margin Stock | 12 CFR part 221 [Reg. U] | 12 CFR part 221 [Reg. U] | 12 CFR part 221 [Reg. U] | 12 CFR part 221 [Reg. U] | 12 CFR part 221 [Reg. U] | 12 CFR part 221 [Reg. U]. — — — — — 12 CFR part 221 [Reg. U].
Credit by Brokers and Dealers |  |  |  |  |  | 12 CFR part 220 [Reg. T].
¹ The Orderly Liquidation Authority subject was included in the chart published on Feb. 6, 2024 (89 FR 8084) but FDIC staff has further reviewed the regulations, 12 CFR part 380, and believes that these rules are not subject to EGRPRA. This subject has been removed from the chart.

Michael J. Hsu,
Acting Comptroller of the Currency.
By order of the Board of Governors of the Federal Reserve System.
Ann E. Misback,
Secretary of the Board.
Federal Deposit Insurance Corporation.
By order of the Board of Directors.
Dated at Washington, DC, on November 20, 2024.
James P. Sheesley,
Assistant Executive Secretary.

[FR Doc. 2024-28939 Filed 12-10-24; 8:45 am]

BILLING CODE 4810-33-P; 6210-01-P; 6714-01-P